COMMODITY FUTURES TRADING COMMISSION

Sunshine Act; Meeting

TIME AND DATE: 11 a.m., Friday, February 4, 2005.

PLACE: 1155 21st., NW., Washington, DC, 9th Floor Commission Conference Room.

STATUS: Closed.

MATTERS TO BE CONSIDERED: Surveillance Matters.

CONTACT PERSON FOR MORE INFORMATION: Jean A. Webb, (202) 418-5100.

Jean A. Webb,
Secretary of the Commission.

[FR Doc. 05-1116 Filed 1-14-05; 11:47 am]

BILLING CODE 6351-01-M